DEPARTMENT OF TRANSPORTATION

Federal Railroad Administration

[Docket Number FRA-2014-0124]

Notice of Petition To Modify a Waiver of Compliance

AGENCY: Federal Railroad Administration (FRA), Department of Transportation (DOT).

ACTION: Notice.

SUMMARY: This document provides the public notice that by letter received December 10, 2024, the National Railroad Passenger Corporation (Amtrak) petitioned FRA for relief from a condition required by FRA's August 9, 2016 decision letter in this docket.

DATES: FRA must receive comments on the petition by April 16, 2025. FRA will consider comments received after that date to the extent practicable.

ADDRESSES:

Comments: Comments related to this docket may be submitted by going to https://www.regulations.gov and following the online instructions for submitting comments.

Instructions: All submissions must include the agency name and docket number. All comments received will be posted without change to https://www.regulations.gov; this includes any personal information. Please see the Privacy Act heading in the SUPPLEMENTARY INFORMATION section of this document for Privacy Act information related to any submitted comments or materials.

Docket: For access to the docket to read background documents or comments received, go to https://www.regulations.gov and follow the online instructions for accessing the docket.

FOR FURTHER INFORMATION CONTACT: Michael Hunter, Executive Staff Director, FRA Office of Railroad Systems and Technology, telephone: 202-493-0368, email: michael.hunter@dot.gov.

SUPPLEMENTARY INFORMATION: Under part 211 of title 49 Code of Federal Regulations (CFR), this document provides the public notice that by letter received December 10, 2024, Amtrak petitioned FRA for relief from a condition required by FRA's August 9, 2016 decision letter in Docket Number FRA-2014-0124.¹ The waiver in this docket allows Amtrak to operate trainsets built to Tier III standards, subject to specific conditions.

¹ See https://www.regulations.gov/document/FRA-2014-0124-0012.

Specifically, Amtrak seeks relief from condition 11a of FRA's decision letter, concerning roadway work hazards, which states, “Amtrak must enact an appropriate speed restriction, not to exceed 125 mph, for all Tier III trainsets when passing roadway working limits on adjacent track.”

In its petition, Amtrak states that, through its “analysis to determine the impact Condition 11a has on [Northeast Corridor (NEC)] safety,” it found that Amtrak's planned risk mitigations will have greater positive impacts on both safety and NEC maintainability and operations. Amtrak plans to enact risk mitigations to include right-of-way barrier and fencing improvements, investment in technologies to reduce the risk of maintenance-of-way collisions, and system-wide procedural safety updates. Because of these planned improvements, Amtrak explains it has determined that condition 11a is no longer needed and that trainsets can operate “at speeds up to 160 mph in designated high-speed zones.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

Communications received by April 16, 2025 will be considered by FRA before final action is taken. Comments received after that date will be considered if practicable.

Privacy Act

Anyone can search the electronic form of any written communications and comments received into any of FRA's dockets by the name of the individual submitting the comment (or signing the document, if submitted on behalf of an association, business, labor union, etc.). Under 5 U.S.C. 553(c), DOT solicits comments from the public to inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2025-04272 Filed 3-14-25; 8:45 am]

BILLING CODE 4910-06-P